DEPARTMENT OF COMMERCE

National Oceanic and Atmospheric Administration

50 CFR Part 635

RIN 0648-BB29

Atlantic Highly Migratory Species; Atlantic Shark Management Measures; Correction

AGENCY: National Marine Fisheries Service (NMFS), National Oceanic and Atmospheric Administration (NOAA), Commerce.

ACTION: Stock status determinations; Notice of Intent (NOI) to prepare an Environmental Impact Statement (EIS); request for comments; correction.

SUMMARY: This document corrects an October 7, 2011, notice that announced the stock status of several Atlantic shark stocks and announced NMFS' intent to amend the 2006 Consolidated Highly Migratory Species (HMS) Fishery Management Plan (FMP) via the rulemaking process to rebuild these shark stocks and end overfishing, as necessary. The notice provided an incorrect date for a scoping meeting held in Galloway, NJ. This document provides the correct date. The address and time for the scoping meeting remain the same. Although the meeting already occurred, it is important that the date be accurate for HMS' records.

DATES: The correct date for the Galloway, NJ, scoping meeting is Tuesday, October 11, 2011.

ADDRESSES: The scoping meeting was held at the Dolce Seaview Resort at 401 South New York Road, Galloway, New Jersey 08205.

FOR FURTHER INFORMATION CONTACT: Karyl Brewster-Geisz or Peter Cooper at (301) 427-8503, or Jackie Wilson at (240) 338-3936.

SUPPLEMENTARY INFORMATION:

Background

NMFS announced the stock status of sandbar, dusky, and Atlantic and Gulf of Mexico blacknose shark stocks in a Federal Register notice on October 7, 2011 (76 FR 62331). The notice also announced NMFS' intent to undertake rulemaking to rebuild and/or end overfishing of these Atlantic shark stocks and to prepare an Environmental Impact Statement (EIS) to assess the potential effects on the human and natural environment resulting from this rulemaking. The notice also announced that NMFS is in the scoping phase of the rulemaking process and notified the public of five public scoping meetings and one conference call to provide the opportunity for public comment on potential shark management measures. Further details regarding the public scoping meetings are provided in the October 7, 2011, notice and are not repeated here.

Need for Correction

In the original Federal Register notice, the date for the Galloway, NJ, public scoping meeting contains an error and is in need of correction.

Correction

Accordingly, in the October 7, 2011 (76 FR 62331) notice (Doc. 2011-26021)—on page 62334, in Table 2, column 1, row 1—the date “October 12, 2011” is corrected to read as follows:

“October 11, 2011.”

Dated: October 19, 2011.
Emily H. Menashes,
Acting Director, Office of Sustainable Fisheries, National Marine Fisheries Service.

[FR Doc. 2011-27476 Filed 10-21-11; 8:45 am]

BILLING CODE 3510-22-P